DEPARTMENT OF THE INTERIOR

Bureau of Land Management

[MTM-56312-01]

Notice of Application for Withdrawal Extension and Opportunity for Public Meeting, Wisdom Administrative Site; Montana

AGENCY: Bureau of Land Management, Interior.

ACTION: Notice of withdrawal application.

SUMMARY: On behalf of the United States Department of Agriculture, the United States Forest Service (USFS) filed an application with the Bureau of Land Management (BLM) requesting the Secretary of the Interior extend Public Land Order (PLO) No. 6560 for an additional 20-year term. PLO No. 6560 as extended by PLO No. 7610 withdrew 59.99 acres of public domain land outside the exterior boundary of the Beaverhead-Deerlodge National Forest in Beaverhead County, Montana from settlement, sale, location, or entry under the general land laws, including the mining laws and transferred administrative jurisdiction to the USFS, subject to valid existing rights, to protect the USFS-managed administrative site. The withdrawal created by PLO No. 6560 as extended will expire on August 5, 2024, unless extended. This notice announces to the public an opportunity to comment on the USFS application.

DATES: Comments must be received by October 5, 2023.

ADDRESSES: All written comments should be sent to the Office of the Regional Forester, Northern Region, 26 Fort Missoula Road, Missoula Montana 59804.

FOR FURTHER INFORMATION CONTACT: Will Pedde, Land Status Program Manager, USFS Region One, 406-329-3204 or via email at will.pedde@usda.gov or you may contact the USFS office at the earlier address. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The USFS filed an application requesting extension of the withdrawal established by PLO No. 6560 (49 FR 32068 (1984)) as extended by PLO No. 7610 (69 FR 50213 (2004)), which withdrew 59.99 acres of public lands in Beaverhead County, Montana, from settlement, sale, location, or entry under the general land laws, including the mining laws (30 U.S.C. ch. 2), subject to valid existing rights, for a 20-year term. PLO No. 6560 is incorporated herein by reference.

The purpose of the proposed extension is to protect the USFS-managed facilities and capital improvements from surface entry and mining within the Wisdom Administrative Site.

The use of a rights-of-way, interagency agreement, or cooperative agreement would not provide adequate protection for this site.

There are no suitable alternative administrative sites available.

No water rights will be needed to fulfill the purpose of the withdrawal.

All interested persons who wish to submit comments, suggestions, or objections in connection with the withdrawal extension application may submit a written request to the Regional Forester by October 5, 2023, at the address in the ADDRESSES section earlier.

Comments, including names and street addresses of respondents, will be available for public review at Region One, 26 Fort Missoula Road, Missoula, Montana 59804, during regular business hours.

Before including your address, phone number, email address, or other personal identifying information in your comment, be advised that your entire comment—including your personal identifying information—may be made publicly available at any time. While you may ask the BLM in your comment to withhold your personal identifying information from the public review, we cannot guarantee that we will be able to do so.

This application will be processed in accordance with the regulations set-forth in 43 CFR 2310.4.

(Authority: 43 U.S.C. 1714.)

Sonya Germann,
State Director.

[FR Doc. 2023-14298 Filed 7-6-23; 8:45 am]

BILLING CODE 4311-15-P